DEPARTMENT OF THE INTERIOR

Bureau of Land Management

[OR-038-1220-AL; HAG 06-0135]

National Historic Oregon Trail Interpretive Center Advisory Board Meeting

AGENCY: Vale District, Bureau of Land Management, Interior.

ACTION: Meeting notice for National Historic Oregon Trail Interpretive Center Advisory Board.

SUMMARY: The National Historic Oregon Trail Interpretive Center Advisory Board will meet June 20, 2006, 8 a.m. to 12 p.m. (PDT) at the Best Western Sunridge Inn, One Sunridge Way, Baker City, Oregon.

Meeting topics will include a Center Update, Marketing, and other topics as may come before the board. The meeting is open to the public. Public comment is scheduled for 10 to 10:15 a.m.

FOR FURTHER INFORMATION CONTACT: Additional information concerning the National Historic Oregon Trail Interpretive Center Advisory Board may be obtained from Debbie Lyons, Public Affairs Officer, Bureau of Land Management, Vale District Office, 100 Oregon Street, Vale, Oregon 97918, (541) 473-6218, e-mail: Debra_Lyons@or.blm.gov.

Dated: May 23, 2006.
Mike Hartwell,
Acting District Manager.

[FR Doc. E6-8233 Filed 5-26-06; 8:45 am]

BILLING CODE 4310-33-P